DEPARTMENT OF VETERANS AFFAIRS

Rehabilitation Research and Development Service Scientific Merit Review Board; Notice of Meeting

The Department of Veterans Affairs (VA) gives notice under Public Law 92-463 (Federal Advisory Committee Act) that a meeting of the Rehabilitation Research and Development Service Scientific Merit Review Board will be held on December 13-14, 2010, at the Hilton Alexandria Old Town, 1767 King Street, Alexandria, VA, from 9 a.m. to 5 p.m. each day. Various subcommittees of the Board will meet to evaluate Center of Excellence and Research Enhancement Award Program applications. Each subcommittee meeting of the Board will be open to the public the first day for approximately one hour from 9 a.m. to 10 a.m. to cover administrative matters and to discuss the general status of the program. The remaining portion of the meetings will be closed. The closed portion of each meeting will involve discussion, examination, reference to, and oral review of the applications and critiques.

The purpose of the Board is to review rehabilitation research and development applications and advise the Director, Rehabilitation Research and Development Service, and the Chief Research and Development Officer on the scientific and technical merit, the mission relevance, and the protection of human and animal subjects.

During the meetings, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

For further information, please contact Tiffany Asqueri, Designated Federal Officer, Rehabilitation Research and Development Service, Department of Veterans Affairs (122P), 810 Vermont Avenue, NW., Washington, DC 20420, or phone at (202) 461-1740 or e-mail at tiffany.asqueri@va.gov.

Dated: November 22, 2010.
By Direction of the Secretary.
Vivian Drake,
Acting Committee Management Officer.

[FR Doc. 2010-29758 Filed 11-24-10; 8:45 am]

BILLING CODE P